DEPARTMENT OF LABOR

Employment and Training Administration

[NAFTA-05929]

Oxford Automotive Oscoda Division, Also Known as Simplified Employment Services, D.A.R.T., ELITE LEASING, ERM, INC. AND NMA, INC. Oscoda, Michigan; Amended Certification Regarding Eligibility To Apply for NAFTA-Transitional Adjustment Assistance

In accordance with section 250(a), Subchapter D, Chapter 2, Title II, of the Trade Act of 1974, as amended (19 USC 2273), the Department of Labor issued a Certification for NAFTA Transitional Adjustment Assistance on March 27, 2002, applicable to workers of Oxford Automotive, Oscoda Division, Oscoda, Michigan. The notice was published in the Federal Register on April 5, 2002 (67 FR 16442).

At the request of the company, the Department reviewed the revised determination for workers of the subject firm. The workers are engaged in the production of automotive metal stampings and assemblies.

New information received from the company shows that the subject firm is also known as several other company entities: Simplified Employment Services, D.A.R.T., Elite Leasing, ERM, Inc. and NMA, Inc. These firms provide payroll and personnel services as well as legal matters for Oxford Automotive. Information also shows that workers wages at the subject firm are reported under the Unemployment Insurance (UI) tax accounts for Simplified Employment Services, D.A.R.T., Elite Leasing, ERM, Inc. and NMA, Inc.

Accordingly, the Department is amending this certification to properly reflect this matter.

The intent of the Department's revised determination is to include all workers of Oxford Automotive, Oscoda Division who were adversely affected by the shift of production of automotive metal stampings and assemblies to Mexico.

The amended notice applicable to NAFTA-05929 is hereby issued as follows:

“All workers of Oxford Automotive, Oscoda Division, also known as Simplified Employment Services, D.A.R.T., Elite Leasing, ERM, Inc., and NMA, Inc., Oscoda, Michigan, who became totally or partially separated from employment on or after December 21, 2000, through March 27, 2004, are eligible to apply for NAFTA-TAA under Section 250 of the Trade Act of 1974.”

Signed in Washington, DC this 16th day of May, 2002.
Linda G. Poole,
Certifying Officer, Division of Trade Adjustment Assistance.

[FR Doc. 02-13949 Filed 6-3-02; 8:45 am]

BILLING CODE 4510-30-P